JUDICIAL CONFERENCE OF THE UNITED STATES

Hearing of the Judicial Conference Advisory Committee on the Federal Rules of Bankruptcy Procedure

AGENCY: The Advisory Committee on the Federal Rules of Bankruptcy Procedure, Judicial Conference of the United States.

ACTION: Notice of cancellation of public hearing.

SUMMARY: The January 10, 2019 public hearing in Washington, DC, on proposed amendments to the Bankruptcy Rules has been canceled.

FOR FURTHER INFORMATION CONTACT: Rebecca A. Womeldorf, Rules Committee Secretary, Rules Committee Staff, Administrative Office of the United States Courts, Washington, DC 20544, telephone (202) 502-1820.

SUPPLEMENTARY INFORMATION: Announcements for this hearing were previously published in 83 FR 39463 and 83 FR44305.

Dated: December 12, 2018.
Rebecca A. Womeldorf,
Rules Committee Secretary.

[FR Doc. 2018-27527 Filed 12-19-18; 8:45 am]

BILLING CODE 2210-55-P